DEPARTMENT OF ENERGY

Federal Energy Regulatory Commission

[Docket No. EC00-81-000, et al.]

Midwest Generation, LLC, et al.; Electric Rate and Corporate Regulation Filings

April 25, 2000.

Take notice that the following filings have been made with the Commission:

1. Midwest Generation, LLC

[Docket No. EC00-81-000]

Take notice that on April 20, 2000, Midwest Generation, LLC (Applicant) tendered for filing an application under Section 203 of the Federal Power Act (FPA) for approval of the transfer to a business trust of transformers and interconnection facilities (Facilities) associated with 71 peaking generators in Illinois that are to be financed pursuant to a sale/leaseback arrangement. Applicant will remain the owner and operator of the Facilities for jurisdictional purposes under the FPA.

Comment date: May 19, 2000, in accordance with Standard Paragraph E at the end of this notice.

2. EME/CDL Trust

[Docket No. EG00-135-000]

Take notice that on April 21, 2000, EME/CDL Trust filed with the Federal Energy Regulatory Commission an application for determination of exempt wholesale generator status pursuant to section 32(a)(1) of the Public Utility Holding Company Act of 1935 (PUHCA). The applicant is a business trust created pursuant to the laws of the State of Delaware that will be engaged directly and exclusively in holding title to 71 combustion turbine units and associated generation and transmission equipment in Illinois, totaling approximately 934 MW (summer rated). The Facilities will be leased by applicant to Edison Mission Energy, or a subsidiary, which in turn will lease the Facilities to Midwest Generation, LLC, which will operate the Facilities as an exempt wholesale generator.

Comment date: May 16, 2000, in accordance with Standard Paragraph E at the end of this notice. The Commission will limit its consideration of comments to those that concern the adequacy or accuracy of the application.

3. Competitive Utility Services Corporation

[Docket No. ER97-1932-013]

Take notice that on April 18, 2000 Competitive Utility Services Corp. (CUSCO) tendered for filing with the Federal Energy Regulatory Commission a Compliance Filing relating to the above docket.

Comment date: May 9, 2000, in accordance with Standard Paragraph E at the end of this notice.

4. California Independent System Operator Corporation; California Independent System Operator Corporation

[Docket No. ER98-3760-005; Docket Nos. EC96-19-053 and ER96-1663-056 (Not Consolidated)]

Take notice that on April 20, 2000, the California Independent System Operator Corporation (ISO) tendered for filing a Compliance filing in the above-captioned docket. The purpose of the filing is to update the ISO Tariff sheets from the Offer of Settlement accepted by the Commission in this matter to reflect subsequent ISO Tariff Amendments approved by the Commission.

The ISO states that this filing has been served on the parties on the restricted service list adopted by the Commission in this proceeding.

Comment date: May 11, 2000, in accordance with Standard Paragraph E at the end of this notice.

5. Central Maine Power Company

[Docket No. ER00-2023-001]

Take notice that on April 20, 2000, Central Maine Power Company (CMP), tendered for filing executed local network operating agreements (LNOAs) for the following customers:

(1) Sunday River Skiway; and

(2) United Technologies Corporation, Pratt & Whitney Division, North Berwick, Maine

On March 30, 2000, in the above-captioned proceeding, CMP filed executed service agreements for local network transmission service and unexecuted LNOAs between CMP and the above-listed Transmission Customers. Since that filing, CMP has negotiated with these Transmission Customers and has reached an agreement regarding the LNOAs. The instant filing replaces the unexecuted LNOAs for the above-listed Transmission Customers with executed LNOAs.

Copies of this filing have been served upon the Maine Public Utilities Commission and copies of this filing (specific to the particular customer only) have been sent to the customers listed above.

Comment date: May 11, 2000, in accordance with Standard Paragraph E at the end of this notice.

6. Allegheny Energy Service Corporation, on behalf of Allegheny Energy Supply Company, LLC

[Docket No. ER00-2252-000]

Take notice that on April 20, 2000, Allegheny Energy Service Corporation on behalf of Allegheny Energy Supply Company, LLC (Allegheny Energy Supply) filed Supplement No. 38 to add one (1) new Customer to the Market Rate Tariff under which Allegheny Energy Supply Company offers generation services; and filed Amendment No. 1 to Supplement No. 38 to incorporate a Netting Agreement with Carolina Power & Light Company into the tariff provisions.

Allegheny Energy Supply requests a waiver of notice requirements to make service available as of March 27, 2000 to Carolina Power & Light Company and make the Netting Agreement effective as of April 5, 2000.

Copies of the filing have been provided to the Public Utilities Commission of Ohio, the Pennsylvania Public Utility Commission, the Maryland Public Service Commission, the Virginia State Corporation Commission, the West Virginia Public Service Commission, and all parties of record.

Comment date: May 11, 2000, in accordance with Standard Paragraph E at the end of this notice.

7. Central Maine Power Company

[Docket No. ER00-2062-001]

Take notice that on April 20, 2000, Central Maine Power Company (CMP) tendered for filing unexecuted local network operating agreements for the following customers:

(1) Bath Iron Works Corp.; (2) Boralex Athens Energy; (3) Boralex Stratton Energy; (4) Brunswick Naval Air Station; (5) Cascade Auburn Fiber; (6) Champion International; (7) The Chinet Company; (8) Dragon Products Company; (9) Fairchild Semiconductor; (10) Forster Inc.; (11) Guilford of Maine, Inc.; (12) International Paper—Jay; (13) International Paper—Masonite; (14) Mead Paper; (15) National Semiconductor; (16) Newark Group—Gardiner Paperboard; (17) PH Chadbourne & Company; (18) Poland Springs Bottling; (19) Portsmouth Naval Shipyard—Kittery; (20) Portland Pipe Line Corp. —Papoose Pond; (21) Portland Pipe Line Corp.—Raymond; (22) Portland Pipe Line Corp.—Tank Farm; (23) Shermag Inc.; (24) SLC Operating Co.; (25) Stone & Webster Eng. Corp.—Maine Yankee; (26) Sugarloaf Mountain Corp. (Quad 4); (27) Sugarloaf Mountain Corp.; (28) Tree Free Fiber Co., LLC, Receivership; and (29) Wausau Papers—Otis.

Copies of this filing have been served upon the Maine Public Utilities Commission and copies of this filing (specific to the particular customer only) have been sent to the customers listed above.

Comment date: May 11, 2000, in accordance with Standard Paragraph E at the end of this notice.

8. Fitchburg Gas and Electric Light Company

[Docket No. ER00-2253-000]

Take notice that on April 20, 2000, Fitchburg Gas and Electric Light Company (FG&E) tendered for filing with the Federal Energy Regulatory Commission (Commission or FERC) a proposed addition to FG&E's Open Access Transmission Tariff, FERC Electric Tariff, First Revised Volume No. 4. FG&E proposes to add SCHEDULE 9—Distribution Adder Under Open Access Transmission Tariff, that would authorize FG&E to propose a charge for a wholesale transmission customer's use of its distribution facilities in the provision of service under its tariff. Such charges would be determined on a case-by-case basis, subject to FERC approval. Fitchburg Gas and Electric Light Company also tendered for filing a Service Agreement For Network Integration Transmission Service and a Network Operating Agreement under its Open Access Transmission Tariff with the Massachusetts Bay Transportation Authority.

FG&E requests that the proposed tariff page, Original Sheet No. 138A, Service Agreement For Network Integration Transmission Service, and Network Operating Agreement be made effective on July 1, 2000.

A copy of this filing has been sent to all parties listed on the official service list in Docket No. OAO97-6-000, FG&E's original Open Access docket, all parties in Docket No. OA97-635-000, and customers. This filing has also been sent to the Massachusetts Department of Telecommunications and Energy.

Comment date: May 11, 2000, in accordance with Standard Paragraph E at the end of this notice.

9. Northern States Power Company (Minnesota)

[Docket No. ER00-2254-000]

Take notice that on April 20, 2000, Northern States Power Company (Minnesota) (NSP) tendered for filing a Construction Agreement and an Interconnection and Transmission Capability Agreement between NSP and Lakefield Junction, L.P.

NSP requests that the Commission accept the Agreement effective March 21, 2000.

Comment date: May 11, 2000, in accordance with Standard Paragraph E at the end of this notice.

10. Cinergy Services, Inc.

[Docket No. ER00-2255-000]

Take notice that on April 20, 2000, Cinergy Services, Inc., (Cinergy) as agent for and on behalf of its affiliated operating companies, The Cincinnati Gas & Electric Company and PSI Energy, Inc. (the Cinergy Operating Companies), tendered for filing a confirmation letter for a multi-year transaction whereby the Cinergy Operating Companies will sell capacity and associated energy to Southern Indiana Gas and Electric Company pursuant to the Cinergy Operating Companies' Power Sales Tariff.

Copies of the filing have been served upon Southern Indiana Gas and Electric Company and the Indiana Utility Regulatory Commission.

Comment date: May 11, 2000, in accordance with Standard Paragraph E at the end of this notice.

11. TXU Electric Company

[Docket No. ER00-2256-000]

Take notice that on April 20, 2000, TXU Electric Company (TXU Electric) tendered for filing a revised tariff to provide open-access, non-discriminatory wholesale transmission service to, from and over certain HVDC Interconnections (Revised TFO Tariff) to supersede TXU Electric's current FERC Electric Tariff, Fourth Revised Volume No. 1 (Current TFO Tariff).

Copies of the filing were served on all parties receiving service under TXU Electric's Current TFO Tariff, as well as the Public Utility Commission of Texas.

Comment date: May 11, 2000, in accordance with Standard Paragraph E at the end of this notice.

12. TXU Electric Company

[Docket No. ER00-2257-000]

Take notice that on April 20, 2000, TXU Electric Company (TXU Electric) and TXU SESCO (jointly referred to herein as TXU) tendered for filing a revised tariff to provide open-access, non-discriminatory wholesale transmission service to Tex-La Electric Cooperative of Texas, Inc. (Revised Tex-La Tariff) to supersede TXU's current FERC Electric Tariff, Original Volume No. 2 (Current Tex-La Tariff).

Copies of the filing were served on Tex-La Electric Cooperative of Texas, Inc., as well as the Public Utility Commission of Texas.

Comment date: May 11, 2000, in accordance with Standard Paragraph E at the end of this notice.

13. Richard J. Stegemeier

[Docket No. ID-3027-001]

Take notice that on April 19, 2000, Richard J. Stegemeier tendered for filing with the Federal Energy Regulatory Commission (Commission) an application pursuant to Section 305(b) of the Federal Power Act, 16 U.S.C. § 825d(b), for authority to hold interlocking positions.

Comment date: May 19, 2000, in accordance with Standard Paragraph E at the end of this notice.

14. Ohio Valley Electric Corporation

[Docket No. OA96-126-001]

Take notice that on April 19, 2000, Ohio Valley Electric Corporation tendered for filing with the Federal Energy Regulatory Commission (Commission), a letter in compliance with the Commission's order in Allegheny Power Service Co., et al., 90 FERC ¶ 61,224 (2000).

Comment date: May 25, 2000, in accordance with Standard Paragraph E at the end of this notice.

15. Duquesne Light Company

[Docket No. OA97-195-001]

Take notice that on April 19, 2000, Duquesne Light Company tendered for filing with the Federal Energy Regulatory Commission (Commission), a letter in compliance with the Commission's order in Allegheny Power Service Co., et al., 90 FERC ¶ 61,224 (2000).

Comment date: May 25, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-10858 Filed 5-1-00; 8:45 am]

BILLING CODE 6717-01-P